DEPARTMENT OF COMMERCE

Foreign-Trade Zones Board

[B-02-2017]

Foreign-Trade Zone (FTZ) 44—Morris County, New Jersey; Notification of Proposed Production Activity; AGFA Corporation (Aluminum Digital Printing Plates); Branchburg, New Jersey

AGFA Corporation (AGFA) submitted a notification of proposed production activity to the FTZ Board for its facility in Branchburg, New Jersey, within FTZ 44. The notification conforming to the requirements of the regulations of the FTZ Board (15 CFR 400.22) was received on December 19, 2016.

A separate application for subzone designation at the AGFA facility has been submitted and is being processed under Section 400.31 of the FTZ Board's regulations (S-152-2016). The facility is used for the production of aluminum digital printing plates used in the commercial printing industry. Pursuant to 15 CFR 400.14(b), FTZ activity would be limited to the specific foreign-status component and specific finished product described in the submitted notification (as described below) and subsequently authorized by the FTZ Board.

Production under FTZ procedures could exempt AGFA from customs duty payments on the foreign-status components used in export production. On its domestic sales, AGFA would be able to choose the duty rate during customs entry procedures that applies to aluminum digital printing plates (duty free) for foreign-status aluminum coils (duty rate 3%). Customs duties also could possibly be deferred or reduced on foreign-status production equipment.

Public comment is invited from interested parties. Submissions shall be addressed to the FTZ Board's Executive Secretary at the address below. The closing period for their receipt is February 21, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: January 3, 2017.
Andrew McGilvray,
Executive Secretary.

[FR Doc. 2017-00148 Filed 1-6-17; 8:45 am]

BILLING CODE 3510-DS-P